DEPARTMENT OF TRANSPORTATION

Federal Aviation Administration

14 CFR Part 39

[Docket No. 2002-CE-13-AD]

RIN 2120-AA64

Airworthiness Directives; Vulcanair S.p.A. P 68 Series Airplanes

AGENCY: Federal Aviation Administration, DOT.

ACTION: Notice of proposed rulemaking (NPRM).

SUMMARY: This document proposes to adopt a new airworthiness directive (AD) that would apply to certain Vulcanair S.p.A. (Vulcanair) P 68 series airplanes. This proposed AD would require you to inspect the flight and engine control systems to ensure that there is correct connecting bolt and linkage installation, no interference, and correct installation of certain components. The proposed AD would also require you to make any necessary adjustments and modify and install the split link and full travel limit assembly. This proposed AD is the result of mandatory continuing airworthiness information (MCAI) issued by the airworthiness authority for Italy. The actions specified by this proposed AD are intended to prevent failure of the primary flight control system caused by certain configurations. Such failure could lead to loss of aircraft flight control.

DATES: The Federal Aviation Administration (FAA) must receive any comments on this proposed rule on or before August 26, 2002.

ADDRESSES: Submit comments to FAA, Central Region, Office of the Regional Counsel, Attention: Rules Docket No. 2002-CE-13-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2002-CE-13-AD” in the subject line. If you send comments electronically as attached electronic files, the files must be formatted in Microsoft Word 97 for Windows or ASCII text.

You may get service information that applies to this proposed AD from Vulcanair S.p.A., Via G. Pascoli 7, 80026 Casoria (Naples) Italy, telephone: +39.081.5918111; facsimile: +39.081.5918172. You may also view this information at the Rules Docket at the address above.

FOR FURTHER INFORMATION CONTACT: Doug Rudolph, Aerospace Engineer, FAA, Small Airplane Directorate, 901 Locust, Room 301, Kansas City, Missouri 64106; telephone: (816) 329-4059; facsimile: (816) 329-4090.

SUPPLEMENTARY INFORMATION:

Comments Invited

How Do I Comment on This Proposed AD?

The FAA invites comments on this proposed rule. You may submit whatever written data, views, or arguments you choose. You need to include the rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are There Any Specific Portions of This Proposed AD I Should Pay Attention to?

The FAA specifically invites comments on the overall regulatory, economic, environmental, and energy aspects of this proposed rule that might suggest a need to modify the rule. You may view all comments we receive before and after the closing date of the rule in the Rules Docket. We will file a report in the Rules Docket that summarizes each contact we have with the public that concerns the substantive parts of this proposed AD.

How Can I be Sure FAA Receives My Comment?

If you want FAA to acknowledge the receipt of your mailed comments, you must include a self-addressed, stamped postcard. On the postcard, write “Comments to Docket No. 2002-CE-13-AD.” We will date stamp and mail the postcard back to you.

Discussion

What Events Have Caused This Proposed AD?

The Ente Nazionale per l'Aviazione Civile (ENAC), which is the airworthiness authority for Italy, recently notified FAA that an unsafe condition may exist on certain Vulcanair Models P 68, P 68B, P 68C, P 68C-TC, P 68 “OBSERVER”, AP68TP300 “SPARTACUS”, P68TC “OBSERVER”, AP68TP 600 “VIATOR”, and P68 “OBSERVER 2” airplanes. The ENAC reports several instances of incorrectly installed bolts, missing nuts, and the presence of interference between the forward control lever assembly and the airframe.

What Are the Consequences If the Condition Is Not Corrected?

If not detected and corrected, these conditions could result in failure of the primary flight controls. Such failure could lead to loss of aircraft flight control.

Is There Service Information that Applies to this Subject?

Vulcanair has issued P68 Series Service Bulletin No. 110, dated March 19, 2002; and P68 Series Service Bulletin No. 111, Rev. 1, dated February 20, 2002.

What Are the Provisions of this Service Information?

Vulcanair P68 Series Service Bulletin No. 110, dated March 19, 2002, includes procedures for:

—Inspecting for interference between the control column interconnection chain and the engine control pedestal assembly when the flight controls are in the maximum nose-down position;

—Inspecting to ensure that the split link is correctly installed in the chain and that the lock-wire is present and undamaged;

—Making any necessary adjustments; and

—Modifying and installing the split link and full travel limit assembly.

Vulcanair P68 Series Service Bulletin No. 111, Rev. 1, dated February 20, 2002, includes procedures for:

—Inspecting all control cable and control rod connecting bolts and linkages for proper installation;

—Inspecting for interference between the flight control components and the airframe installations;

—Making any necessary adjustments; and

—Inspecting for the correct installation of the part number AN24-18A bolt that connects the forward control cable rod to the control column and reinstalling if necessary.

What Action Did the ENAC Take?

The ENAC classified these service bulletins as mandatory. In order to ensure the continued airworthiness of these airplanes in Italy, the ENAC issued the following:

—Italian AD Number 2002-212, dated March 28, 2002; and

—Italian AD Number 2002-155, dated February 22, 2002.

Was This in Accordance With the Bilateral Airworthiness Agreement?

These airplane models are manufactured in Italy and are type certificated for operation in the United States under the provisions of section 21.29 of the Federal Aviation Regulations (14 CFR 21.29) and the applicable bilateral airworthiness agreement.

Pursuant to this bilateral airworthiness agreement, the ENAC has kept FAA informed of the situation described above.

The FAA's Determination and an Explanation of the Provisions of this Proposed AD

What has FAA Decided?

The FAA has examined the findings of the ENAC; reviewed all available information, including the service information referenced above; and determined that:

—The unsafe condition referenced in this document exists or could develop on other Vulcanair P 68 series airplanes of the same type design that are on the U.S. registry;

—The actions specified in the previously-referenced service information should be accomplished on the affected airplanes; and

—AD action should be taken in order to correct this unsafe condition.

What Would This Proposed AD Require?

This proposed AD would require you to incorporate the actions in the previously-referenced service information.

Cost Impact

How Many Airplanes Would This Proposed AD Impact?

We estimate that the proposed AD affects as many as 58 airplanes in the U.S. registry. The actions specified in Vulcanair P68 Series Service Bulletin No. 110 affect 15 U.S.-registered airplanes. The actions specified in Vulcanair P68 Series Service Bulletin No. 111, Rev.1, affect 58 U.S.-registered airplanes.

What Would be the Cost Impact of This Proposed AD on Owners/Operators of the Affected Airplanes?

We estimate the following costs to accomplish the proposed inspections and modifications of Vulcanair P68 Series Service Bulletin No. 110:

Labor cost | Parts cost | Total cost per airplane | Total cost on U.S. operators
7 workhours × $60 per hour = $420 | $150 | $570 | $8,550

We estimate the following costs to accomplish the proposed inspections of Vulcanair P68 Series Service Bulletin No. 111, Rev. 1:

Labor cost | Parts cost | Total cost per airplane | Total cost on U.S. operators
4 workhours × $60 per hour = $240 | None | $240 | $13,920

The FAA has no method of determining the number of necessary adjustments each owner/operator would incur if connecting bolts, linkage, etc. were found incorrectly installed. We estimate the cost to be minor.

Compliance Time of this Proposed AD

What Would Be the Compliance Time of This Proposed AD?

The compliance time of this proposed AD is “within the next 30 days after the effective date of the AD.”

Why Is the Compliance Time Presented in Calendar Time Instead of Hours Time-In-Service (TIS)?

The compliance of this proposed AD is presented in calendar time instead of hours TIS because these missing or incorrectly installed parts is due to a lack of quality control at the factory. The problem has the same chance of existing on an airplane with 50 hours TIS as it would for an airplane with 1,000 hours TIS. Therefore, we believe that 30 days will:

—Ensure that the unsafe condition does not go undetected for a long period of time on the affected airplanes; and

—Not inadvertently ground any of the affected airplanes.

Regulatory Impact

Would This Proposed AD Impact Various Entities?

The regulations proposed herein would not have a substantial direct effect on the States, on the relationship between the national government and the States, or on the distribution of power and responsibilities among the various levels of government. Therefore, it is determined that this proposed rule would not have federalism implications under Executive Order 13132.

Would This Proposed AD Involve a Significant Rule or Regulatory Action?

For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

Vulcanair S.P.A.: Docket No. 2002-CE-13-AD.

(a) What airplanes are affected by this AD? This AD affects the following airplane models and serial numbers that are certificated in any category:

(1) Group 1 Airplanes: Model P 68 “OBSERVER 2”, serial numbers 401 through 411.

(2) Group 2 Airplanes: Model P 68 “OBSERVER 2”, serial numbers 412 and 413.

(3) Group 3 Airplanes: Model P 68C, serial number 402.

(4) Group 4 Airplanes:

Model | Serial Nos.
P 68 “OBSERVER” | All serial numbers through 411.
P 68 “OBSERVER” | All serial numbers through 400.
P68TC “OBSERVER” | All serial numbers through 411.

(5) Group 5 Airplanes:

Model | Serial Nos.
AP68TP300 “SPARTACUS” | All serial numbers through 413.
P 68 | All serial numbers through 413.
P 68 “OBSERVER” | 412 and 413.
P 68 B | All serial numbers through 413.
P 68C | All serial numbers through 401 and 403 through 413.
P 68C-TC | All serial numbers through 413.
P68TC “OBSERVER” | 412 and 413.
P68TP 600 “VIATOR” | All serial numbers through 413.

(b) Who must comply with this AD? Anyone who wishes to operate any of the airplanes identified in paragraphs (a)(1) through (a)(5) of this AD must comply with this AD.

(c) What problem does this AD address? The actions specified by this AD are intended to prevent failure of the primary flight control system caused by certain configurations. Such failure could lead to loss of aircraft flight control.

(d) What actions must I accomplish to address this problem? To address this problem, you must accomplish the following:

Actions | Compliance | Airplane groups affected | Procedures
(1) Inspect the connecting bolts in the stabilator, rudder, aileron, and flap controls to verify the correct installation and inspect the forward control lever for interference with the airframe (i) If interference or any incorrect installations are found during the inspections, obtain a repair scheme from the manufacturer through the FAA at the address specified in paragraph (f) of this AD (ii) Incorporate this repair scheme | Within the next 30 days after the effective date of this AD. Perform necessary repairs prior to further flight after the inspection in which the interference or any incorrect installation is found | Group 1, Group 2, and Group 3 | Inspect in accordance with paragraph 2. WORK PROCEDURE, 2.1 PART A, of Vulcanair P68 Series Service Bulletin No. 111 Rev. 1, dated February 20, 2002. Repair in accordance with the repair scheme obtained from Vulcanair S.p.A., Via G. Pascoli 7, 80026 Casoria (Naples) Italy. Obtain this repair scheme through the FAA at the address specified in paragraph (f) of this AD.
(2) Accomplish the following inspections: (i) Inspect to ensure that there is no interference between the control column interconnection chain and engine control pedestal assembly when the flight controls are in the maximum nose down position. Correct any interference as specified in the service information or obtain a repair scheme from the manufacturer through FAA at the address specified in paragraph (f) of this AD, as applicable (ii) Inspect to ensure that the split link (part number NOR7.059-1) is correctly installed in the chain and that the lock-wire is present, undamaged, and installed correctly. Make any necessary corrections | Inspect within the next 30 days after the effective date of this AD. Make any necessary corrections or repairs prior to further flight after the inspection where the problem is found | Group 1 and Group 4 | In accordance with the WORK PROCEDURE section of Vulcanair P68 Series Service Bulletin No. 110, dated March 19, 2002. Repair in accordance with the repair scheme obtained from Vulcanair S.p.A., Via G. Pascoli 7, 80026 Casoria (Naples) Italy. Obtain this repair scheme through the FAA at the address specified in paragraph (f) of this AD.
(3) Install and modify the following: (i) Split Link, part number NOR7.059-1 (ii) Full Travel Limit Assembly, part number 5.3077-1/-2 | Within the next 30 days after the effective date of this AD | Group 1 and Group 4 | In accordance with the WORK PROCEDURE section of Vulcanair P68 Series Service Bulletin No. 110, dated March 19, 2002.
(4) Inspect bolt part number AN24-18A to verify the correct installation and inspect for the existence of a part number MS21083N4 nut. Correctly install an incorrectly installed bolt and, if missing, install the nut | Within the next 30 days after the effective date of this AD. Install prior to further flight after the inspection where problems are found | Group 1, Group 2, Group 3, Group 4, and Group 5 | In accordance with the WORK PROCEDURE section of Vulcanair P68 Series Service Bulletin No. 111 Rev. 1, dated February 20, 2002.

(e) Can I comply with this AD in any other way? You may use an alternative method of compliance or adjust the compliance time if:

(1) Your alternative method of compliance provides an equivalent level of safety; and

(2) The Standards Office Manager, Small Airplane Directorate, approves your alternative. Submit your request through an FAA Principal Maintenance Inspector, who may add comments and then send it to the Standards Office Manager.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

Note 2: The FAA recommends that owners/operators report results of all inspections required in paragraphs (d)(1), (d)(2)(i), (d)(2)(ii), and (d)(4) of this AD to the manufacturer as stated in the service bulletins.

(f) Where can I get information about any already-approved alternative methods of compliance? Contact Doug Rudolph, Aerospace Engineer, FAA, Small Airplane Directorate, 901 Locust, Room 301, Kansas City, Missouri 64106; telephone: (816) 329-4059; facsimile: (816) 329-4090.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may get copies of the documents referenced in this AD from Vulcanair S.p.A., Via G. Pascoli 7, 80026 Casoria (Naples) Italy, telephone: +39.081.5918111; facsimile: +39.081.5918172. You may view these documents at FAA, Central Region, Office of the Regional Counsel, 901 Locust, Room 506, Kansas City, Missouri 64106.

Note 3: The subject of this AD is addressed in Italian AD Number 2002-212, dated March 28, 2002; and Italian AD Number 2002-155, dated February 22, 2002.

Issued in Kansas City, Missouri, on July 5, 2002.
James E. Jackson,
Acting Manager, Small Airplane Directorate, Aircraft Certification Service.

[FR Doc. 02-17601 Filed 7-12-02; 8:45 am]

BILLING CODE 4910-13-P